DEPARTMENT OF THE INTERIOR

National Park Service

Notice of Intent To Prepare an Environmental Impact Statement for an Elk Management Plan, Wind Cave National Park, SD

AGENCY: National Park Service, Department of the Interior.

SUMMARY: Under the provisions of the National Environmental Policy Act (NEPA) of 1969 (42 U.S.C. 4321 et seq.), the National Park Service (NPS) is preparing an environmental impact statement (EIS) for an Elk Management Plan for Wind Cave National Park (WICA), South Dakota. An elk management plan is needed to manage the elk population within established acceptable levels, to identify a range of elk management strategies that are compatible with long-term protection of other park resources and natural ecosystems and processes, and to test for and manage disease situations in the elk population. A number of factors contribute to the need for this plan. The elk population within the park has fluctuated since reintroduction and dictated both lethal and translocation control in the past. Due to the insufficient number of predators and the limited movement of elk in and out of the park, the elk population will likely continue to grow unchecked. Excessive browsing caused by high densities of elk may adversely affect mixed-grass prairie and other forage, as well as cultural resources in the park. Furthermore, this plan is needed because the NPS has the responsibility to manage the elk population within the park at levels that are compatible with park goals.

DATES: The National Park Service (NPS) intends to conduct public scoping at locations in South Dakota, including Pierre, Sioux Falls, Rapid City, Custer, and Hot Springs. Public scoping is intended to identify issues and concerns that should be addressed in the development of an Elk Management Plan for WICA. To be most helpful to the scoping process, comments should be received within 60 days of the publication of this notice in the Federal Register. See details for sending comments in SUPPLEMENTARY INFORMATION below. Please check local newspapers, the WICA Web site at http://www.nps.gov/wica, or contact the name listed below to find out when and where these open houses will be held and to view draft documents and other current information regarding elk management and the EIS. In addition to this scoping process, there will be additional opportunities to comment on the plan throughout the planning process, including the draft and final document.

ADDRESSES: Information will be available for public review and comment at WICA headquarters located 14 miles north of Hot Springs, SD. The address is: Wind Cave National Park, RR1, Box 190, Hot Springs, SD 57747.

FOR FURTHER INFORMATION CONTACT: Tom Farrell, Public Information Officer, or Linda Stoll, Superintendent, at 605-745-4600.

SUPPLEMENTARY INFORMATION: The NPS seeks to complete an EIS to address elk management at WICA. Section 4.4.2 of the NPS Management Policies (2001) provides for the active management of native animals when management of a population is necessary because it occurs in unnaturally high or low numbers because of human influence. An elk management strategy is needed at WICA because past and current actions within and beyond the park have created conditions that allow the WICA elk population to increase with little or no control. These conditions include the insufficient number of elk predators, the limited effectiveness of public hunting outside of the park as a population control method for elk that range primarily within the park, lack of significant winter kill and other environmentally-caused elk mortalities, high reproductive and survival rates, and the discontinuation of translocating elk from the park.

Elk were reintroduced to the park in 1913 to restore an extirpated native species. The park is surrounded by thirty-seven miles of 7 foot high and four miles of 4.5 foot high woven-wire fence. This fence was designed to allow for movement of most wildlife, yet confines bison within the park. Wolves and bears have been extirpated since the late 1800s, and effective natural predation on ungulates is limited to that which occurs by mountain lions, coyotes and bobcats. Since elk reintroduction in 1913, the population has doubled approximately every 3 years. Research was conducted in the mid-1960s and again in 2003 to provide insight into the forage requirements of elk and other grazers in the park. The resulting data, which considers the forage needs of all ungulates in the park, suggested the park could maintain approximately 350-400 elk. Since reintroduction, the population has exceeded 400 at various times, prompting the removal of animals by both lethal and translocation means. In the fall of 2002, chronic wasting disease (CWD) was found in the park. The NPS policy dictates that translocation of elk may only occur if the animals are free of disease, which removes the possibility of translocation of animals from WICA. Currently, the elk herd numbers about 700, exceeding the maximum number of animals that data suggest can be sustained long-term without negatively affecting other park resources.

A determination of the effects of the elk management plan will be conducted in accordance with NEPA (42 U.S.C. 4372 et seq.), NEPA regulations (40 CFR 1500-1508), other appropriate Federal regulations, and NPS procedures and policies for compliance with those regulations.

The South Dakota Game, Fish and Parks Department will serve as a Cooperating Agency in the preparation of the EIS, per NEPA guidelines.

If you wish to comment on the scoping brochure or any other issues associated with the plan, you may submit your comments by any one of several methods. Written comments may be mailed or hand-delivered to the Superintendent at the address above. You may e-mail comments to wica_forum@nps.gov. Please submit internet comments as a text file and avoid the use of special characters and any form of encryption. Please put in the subject line “Elk Management Plan,” and include your name and return address in your message. If you do not receive a confirmation from the system that we have received your message, contact Tom Farrell, Public Information Officer, at the number listed above.

Our practice is to make comments, including names and home addresses of respondents, available for public review during regular business hours. Individual respondents may request that we withhold their home addresses from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dated: August 20, 2004.
Ernest Quintana,
Regional Director, Midwest Region.

[FR Doc. 04-27611 Filed 12-16-04; 8:45 am]

BILLING CODE 4312-AL-P